FEDERAL MARITIME COMMISSION

[Ocean Transportation Intermediary License No. 1929-R]

Perez International Forwarders, Inc.; Order of Revocation

Section 19c of the Shipping Act of 1984 provides that the Federal Maritime Commission (“Commission”) may revoke an ocean transportation intermediary's (“OTI”) license for failure to maintain a valid bond, proof of insurance, or other surety in accordance with subsection (b)(1) of said section. The Commission's regulations, in 46 CFR 515.26, financial responsibility is maintained on file with the Commission. Upon receipt of notice of termination of such financial responsibility the Commission shall notify the licensee, that the Commission shall, without hearing or other proceeding, revoke the license as of the termination date, unless the licensee shall have submitted valid replacement proof of financial responsibility before such termination date.

The bond issued in favor of Perez International Forwarders, Inc., was cancelled effective April 14, 2000. The Commission notified licensee that its OTI ocean freight forwarder license would be revoked unless the Commission received valid proof of financial responsibility with an effective date on or before April 14, 2000. The licensee has failed to furnish valid proof of financial responsibility.

Therefore, by virtue of the authority vested in me by the Commission as set forth in 46 CFR 501.27(g) (1999);

Notice is Hereby Given, that OTI ocean freight forwarder license No. 1929-R issued to Perez International Forwarders, Inc. is hereby revoked effective April 14, 2000.

It is Ordered, that OTI license No. 1929-R be returned to the Commission for cancellation.

It is Further Ordered, that a notice of this action be published in the Federal Register and that a copy of this Order be served upon Perez International Forwarders, Inc.

Sandra L. Kusumoto,
Director, Bureau of Consumer Complaints and Licensing.

[FR Doc. 00-15774 Filed 6-20-00; 8:45 am]

BILLING CODE 6730-01-M